DEPARTMENT OF ENERGY

Federal Energy Regulatory Commission

Combined Notice of Filings

Take notice that the Commission has received the following Natural Gas Pipeline Rate and Refund Report filings:

Filings Instituting Proceedings

Docket Numbers: RP13-380-000.

Applicants: El Paso Marketing Company, L.L.C.,Kinder Morgan Tejas Pipeline LLC.

Description: Withdrawal of the December 11, 2012 Joint Petition of El Paso Marketing Company, L.L.C. and Kinder Morgan Tejas Pipeline LLC for Temporary Waiver of Capacity Release Regulations and Policies.

Filed Date: 1/7/13.

Accession Number: 20130107-5223.

Comments Due: 5 p.m. ET 1/22/13.

Docket Numbers: RP13-437-000.

Applicants: East Tennessee Natural Gas, LLC.

Description: K410135 Release to K660958 to be effective 1/1/2013.

Filed Date: 1/4/13.

Accession Number: 20130104-5128.

Comments Due: 5 p.m. ET 1/16/13.

Docket Numbers: RP13-438-000.

Applicants: Saltville Gas Storage Company L.L.C.

Description: K00183S Release to K490041 to be effective 1/1/2013.

Filed Date: 1/4/13.

Accession Number: 20130104-5129.

Comments Due: 5 p.m. ET 1/16/13.

Docket Numbers: RP13-439-000.

Applicants: Northern Natural Gas Company.

Description: 20130107 Negotiated Rate to be effective 1/8/2013.

Filed Date: 1/7/13.

Accession Number: 20130107-5154.

Comments Due: 5 p.m. ET 1/22/13.

Docket Numbers: RP13-440-000.

Applicants: Natural Gas Pipeline Company of America.

Description: Removing Expired Agreements to be effective 2/8/2013.

Filed Date: 1/8/13.

Accession Number: 20130108-5140.

Comments Due: 5 p.m. ET 1/22/01.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-294-001.

Applicants: Gulf South Pipeline Company, LP.

Description: Compliance Filing in Docket No. RP13-294 to be effective 1/1/2013.

Filed Date: 1/4/13.

Accession Number: 20130104-5030.

Comments Due: 5 p.m. ET 1/16/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated January 9, 2013.
Nathaniel J. Davis, Sr.,
Deputy Secretary.

[FR Doc. 2013-00684 Filed 1-14-13; 8:45 am]

BILLING CODE 6717-01-P